DEPARTMENT OF ENERGY

Federal Energy Regulatory Commission

[Docket No. IC05-550-000; FERC-550]

Commission Information Collection Activities, Proposed Collection; Comment Request; Extension

February 23, 2005.

AGENCY: Federal Energy Regulatory Commission.

ACTION: Notice of proposed information collection and request for comments.

SUMMARY: In compliance with the requirements of section.3506(c)(2)(a) of the Paperwork Reduction Act of 1995 (Pub. L. 104-13), the Federal Energy Regulatory Commission (Commission) is soliciting public comment on the specific aspects of the information collection described below.

DATES: Comments on the collection of information are due April 25, 2005.

ADDRESSES: Copies of the proposed collection of information can be obtained from the Commission's Web site (http://www.ferc.gov/docs-filing/elibrary.asp) or to the Federal Energy Regulatory Commission, Attn: Michael Miller, Office of the Chief Information Officer, CI-1, 888 First Street, NE., Washington, DC 20426. Comments may be filed either in paper format or electronically. Those parties filing electronically do not need to make a paper filing. For paper filing, the original and 14 copies of such comments should be submitted to the Office of the Secretary, Federal Energy Regulatory Commission, 888 First Street, NE., Washington, DC 20426 and refer to Docket No. IC05-550-000.

Documents filed electronically via the Internet must be prepared in WordPerfect, MS Word, Portable Document Format, or ASCII format. To file the document, access the Commission's Web site at http://www.ferc.gov and click on “Make an E-filing”, and then follow the instructions for each screen. First time users will have to establish a user name and password. The Commission will send an automatic acknowledgement to the sender's e-mail address upon receipt of comments.

All comments may be viewed, printed or downloaded remotely via the Internet through FERC's home page using the eLibrary link. For user assistance, contact FERCOnlineSupport@ferc.gov or toll-free at (866) 208-3676 or for TTY, contact (202) 502-8659.

FOR FURTHER INFORMATION CONTACT: Michael Miller may be reached by telephone at (202) 502-8415, by fax at (202) 273-0873, and by e-mail at michael.miller@ferc.gov.

SUPPLEMENTARY INFORMATION: Form 550 “Oil Pipeline Rates: Tariff Filings” (OMB No. 1902-0089) is used by the Commission to implement the statutory provisions governed by Part I, sections 1, 6 and 15 of the Interstate Commerce Act (ICA) (Pub. L. 337,34 Stat. 384). Jurisdiction over oil pipelines as it relates to the establishment of rates or charges for the transportation of oil by pipeline or the establishment of valuations for pipelines, was transferred from the Interstate Commerce Commission (ICC) to FERC, pursuant to section 306 and 402 of the Department of Energy Organization Act (DOE Act), 42 U.S.C. 7155 and 7172 and Executive Order No. 12009, 42 FR-46267 (September 17, 1977).

The filing requirements provide the basis for analysis of all rates, fares, or charges whatsoever demanded, charged or collected by any common carrier or carriers in connection with the transportation of crude oil and petroleum products and are used by the Commission to establish a basis for determining the just and reasonable rates that should be charged by the regulated pipeline company. Based on this analysis, a recommendation is made to the Commission to take action whether to suspend, accept or reject the proposed rate. The data required to be filed for pipeline rates and tariff filings are specified in 18 CFR 340-348.

Action: The Commission is requesting a three-year extension of the current expiration date, with no changes to the existing collection of data.

Burden Statement: Public reporting burden for this collection is estimated as:

Number of respondents annually (1) | Number of responses per respondent (2) | Average burden hours per response (3) | Total annual burden hours (1)×(2)×(3)
200 | 3 | 11 | 6600

Estimated cost burden to respondents: 6600 hours/2080 hours per year × $108,558 per year = $34,446. The cost per respondent is equal to $172.23.

The cost estimate for respondents is based upon salaries for professional and clerical support, as well as direct and indirect overhead cost. Direct cost include all costs directly attributable to providing this information, such as administrative cost for information technology. Indirect or overhead costs are cost incurred by an organization in support of its mission. These costs apply to activities which benefit the whole organization rather than any one particular function or activity.

The reporting burden includes the total time, effort, or financial resources expended to assemble and disseminate the information including: (1) Reviewing the instructions; (2) developing, or acquiring appropriate technological support systems necessary for the purposes of collecting, validating, processing, and disseminating the information; (3) administration; and (4) transmitting, or otherwise disclosing the information.

Comments are invited on: (1) Whether the proposed collection of information is necessary for the proper performance of the functions of the Commission, including whether the information will have practical utility; (2) the accuracy of the agency's burden estimate of the proposed collection of information, including the validity of the methodology and assumptions used; (3) ways to enhance the quality, utility and clarity of the information on those who are to respond, including the use of appropriate automated, electronic, mechanical, or other technological collection techniques or other forms of information technology, e.g., permitting electronic submission of responses.

Linda Mitry,
Deputy Secretary.

[FR Doc. E5-805 Filed 2-28-05; 8:45 am]

BILLING CODE 6717-01-P